DEPARTMENT OF HEALTH AND HUMAN SERVICES

Centers for Medicare & Medicaid Services

[Document Identifier: CMS-10786, CMS-10792 and CMS-10575]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by March 24, 2022.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, you may make your request using one of following:

1. Access CMS' website address at website address at: https://www.cms.gov/Regulations-and-Guidance/Legislation/PaperworkReductionActof1995/PRA-Listing.html.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB Control Number); Title of Information Collection: Substance Use-Disorder Prevention that Promotes Opioid Recovery and Treatment (SUPPORT) for Patients and Communities Act Section 1003 Demonstration Evaluation; Use: Section 1003 of the SUPPORT Act authorizes the Secretary of HHS, in consultation with the Director of the Agency for Healthcare Research and Quality (AHRQ) and the Assistant Secretary for Mental Health and Substance Use from the Substance Abuse and Mental Health Services Administration (SAMHSA), to conduct a 54-month demonstration project (hereinafter, “the Demonstration”) which is designed to increase the capacity of Medicaid providers to deliver substance use disorder (SUD) treatment and recovery services.

Section 1003 also requires an evaluation of the demonstration. The evaluation is designed to assess:

• The effectiveness of the Demonstration in increasing the capacity of providers participating under the Medicaid state plan (or a waiver of such plan) to provide substance use disorder treatment or recovery services under such plan (or waiver);

• The activities carried out under the planning grants and demonstration project;

• The extent to which participating states have achieved the stated goals; and

• The strengths and limitations of the planning grants and demonstration project.

This collection of information request is intended to satisfy the reporting requirements, defined in the statute, regarding the impact of the Demonstration. The evaluation of the Demonstration will assess the extent to which the participating states achieved the goals they established to increase substance use treatment or recovery provider capacity under the Medicaid program. This includes both the planning and post-planning periods of the demonstration, as evaluation during both phases will enable CMS and stakeholders to assess the effects of the additional support provided to states during the post-planning period, relative to the planning period only.

Primary data collection will occur in two rounds in year two and year four of the evaluation. In both rounds, data collection will consist of: (1) A survey of providers in all 15 Planning Grant states who are eligible to prescribe and/or administer either buprenorphine or methadone medication for opioid use disorder (OUD), and (2) focus groups of providers in five post-planning period states (two focus groups per state, with six to eight participants in each group) who treat SUD, including OUD.

The survey will gather information on provider experiences related to Medicaid provider enrollment, SUD service delivery, and changes in OUD medication treatment, including barriers and enablers of prescribing and dispensing.

The focus groups will examine the impact of key aspects of implementation, such as perceived burdens associated with Medicaid enrollment or MAT delivery, access to referral placements, value of state-provided TA, and benefits and unanticipated outcomes experienced by providers during the Demonstration. Form Number: CMS-10786 (OMB control number: 0938-NEW); Frequency: Biennial; Affected Public: Private sector (Business or other for-profits and Not-for-profit institutions); Number of Respondents: 28,810; Total Annual Responses: 14,405; Total Annual Hours: 3,689. (For policy questions regarding this collection contact Melanie Brown at 410-786-1095.)

2. Type of Information Collection Request: New collection (Request for a new OMB control number); Title of Information Collection: Patient-Reported Indicator Survey (PaRIS); Use: The Centers for Medicare and Medicaid Services (CMS) invites comments on a proposed new Information Collection Request (ICR) to conduct the International Survey of People Living with Chronic Conditions (hereafter referred to as the PaRIS Survey). This survey has been developed by a collaborative workgroup under the auspices of the Organization for Economic Cooperation and Development (OECD), an international organization that works with governments, policy makers, and citizens to shape policies that foster prosperity, equality, opportunity, and well-being for all.

The OECD launched the PaRIS initiative in 2017 to address gaps in health outcomes measures, particularly regarding user experiences with health care services. OECD member countries, including the U.S., are working together to develop, standardize, and implement indicators that measure outcomes and experiences of health care that matter most to people. The PaRIS Survey will provide a common set of measures that support policy makers across participating countries to improve health care delivery. On behalf of the Department of Health and Human Services (DHHS) Assistant Secretary for Planning and Evaluation (ASPE), the Office of Enterprise Data and Analytics (OEDA) in CMS has been designated as the lead participant for the U.S.

The PaRIS Survey will help to close critical policy gaps by focusing on: (1) Patient Reported Experience Measures (PREMS) which measure how patients experience health care, and (2) Patient Reported Outcome Measures (PROMS) which measure how patients assess the results of the care they receive. The PaRIS survey includes both PREMS and PROMS items and aims to collect vital information about primary health care, by asking about topics such as the respondent's health, health behaviors, patient activation and confidence in managing their health care, experiences with health care and health providers including access to health care, quality of life, physical functioning, and psychological well-being.

OECD and its member countries will use data collected by the PaRIS Survey to shed light on key questions about how well care in each country is organized around the needs of patients. Results from the survey will show how key outcomes and experiences vary across and within countries. This will allow countries to benchmark and learn from each other's approaches. The survey will also help policy makers in OECD member countries understand how health systems are addressing the needs of persons with chronic health conditions. Findings will foster a dialogue with service providers about how to further improve the performance and people-centeredness of primary health care services.

To facilitate U.S. participation in this important initiative, CMS will leverage the existing sample for the Medicare Current Beneficiary Survey (MCBS). The MCBS is a continuous, multi-purpose survey of a representative national sample of the Medicare population; it is conducted under OMB clearance number 0938-0568. While the MCBS sample includes the population of beneficiaries aged 65 and over and beneficiaries aged 64 and below with certain disabling conditions residing in the U.S., selection for the PaRIS Survey will be limited to beneficiaries aged 65 and over who have seen a medical provider in the last six months to provide a comparable population to survey respondents selected in other participating OECD countries. Interviewers will telephone MCBS respondents and administer the PaRIS Survey by phone as a one-time standalone survey during January through April 2023. Non-response follow-up will be conducted by telephone and in-person as needed. It is estimated that 5,144 Medicare beneficiaries will participate in this 40-minute survey. CMS plans to release a disclosure protected public use file with accompanying methodological documentation. This public use file will also be made available to OECD for analysis and released with data from other participating countries. Form Number: CMS-10792 (OMB: 0938-New); Frequency: One-time collection; Affected Public: Individuals residing in households; Total Number of Respondents: 10,498; Total Number of Responses: 10,498; Total Hours: 3,814 (For policy questions regarding this collection contact William Long at 410-786-7927.)

3. Type of Information Collection Request: Extension of a currently approved collection; Title of Information Collection: Generic Clearance for the Health Care Payment Learning and Action Network; Use: The Center for Medicare and Medicaid Services (CMS), through the Center for Medicare and Medicaid Innovation, develops and tests innovative new payment and service delivery models in accordance with the requirements of section 1115A and in consideration of the opportunities and factors set forth in section 1115A(b)(2) of the Act. To date, CMS has built a portfolio of models (in operation or recently announced) that have attracted participation from a broad array of health care providers, states, payers, and other stakeholders.

To more effectively partner with stakeholders across the health care system and accelerate system transformation, CMS launched the Health Care Payment Learning and Action Network (LAN) to accelerate the transition to Medicare and non-Medicare alternative payment models by collaborating with a broad array of health care delivery stakeholders, identifying best practices in their implementation, and monitoring the adoption of value-based alternative payment models across the U.S. health care system—to include the percentage of Medicare, Medicaid, and non-Medicare payments tied to (and U.S. lives covered by) alternative payment models that reward the quality of care delivered. Form Number: CMS-10575 (OMB control number: 0938-1297); Frequency: Occasionally; Affected Public: Individuals and Households, State, Local, or Tribal Governments, Federal Government, Private Sector (Business or other for-profits and Not-for-profits); Number of Respondents: 30,110; Number of Responses: 23,110; Total Annual Hours: 26,467. (For questions regarding this collection contact Dustin Allison (303) 437-6123.)

Dated: February 16, 2022.
William N. Parham, III,
Director, Paperwork Reduction Staff, Office of Strategic Operations and Regulatory Affairs.

[FR Doc. 2022-03725 Filed 2-18-22; 8:45 am]

BILLING CODE 4120-01-P